DEPARTMENT OF HEALTH AND HUMAN SERVICES

Request for Public Comments on the Pain Management Best Practices Inter-Agency Task Force Draft Report on Pain Management Best Practices: Updates, Gaps, Inconsistencies, and Recommendations

AGENCY: Office of the Assistant Secretary for Health, Office of the Secretary, U.S. Department of Health and Human Services (HHS).

ACTION: Notice of request for public comments on the Draft Report on Pain Management Best Practices: Updates, Gaps, Inconsistencies, and Recommendations, which proposes updates to best practices and recommendations for pain management, including chronic and acute pain.

SUMMARY: The Comprehensive Addiction and Recovery Act of 2016 (CARA), requires that the public be given at least ninety (90) days to submit comments on any proposed updates and recommendations developed by the Pain Management Best Practices Inter-Agency Task Force (Task Force). The Task Force is requesting comments on the Draft Report on Pain Management Best Practices: Updates, Gaps, Inconsistencies, and Recommendations (hereinafter referred to as Draft Report). Section 101 of the CARA authorized the creation of the Task Force to identify gaps or inconsistencies, and propose updates to best practices and recommendations for pain management, including chronic and acute pain. The Secretary of HHS convened the Task Force in cooperation with the Secretary of Veterans Affairs and Secretary of Defense. On September 26, 2018, the Task Force voted on the proposed updates and recommendations that would be provided to the public for comment, which are included in the Draft Report. Once the ninety (90) day comment period concludes, the Task Force will consider comments received and compile a Final Report with its proposed updates and recommendations.

DATES: Comments for consideration by the Task Force should be received no later than 5:00 p.m. Eastern Time (ET) on April 1, 2019.

ADDRESSES: The Draft Report is available at https://www.hhs.gov/ash/advisory-committees/pain/index.html. Written comments may be submitted by any of the following three methods: (1) Submit through the Federal eRulemaking Portal at http://www.regulations.gov, Docket Number: HHS-OS-2018-0027, (2) Email to: paintaskforce@hhs.gov, or (3) Mail written comments to the U.S. Department of Health and Human Services, Office of the Assistant Secretary for Health, 200 Independence Avenue SW, Room 736E, Attn: Alicia Richmond Scott, Pain Management Best Practices Inter-Agency Task Force Designated Federal Officer, Washington, DC 20201. For more detailed instructions on submitting comments, see the “Instructions for Commenters” section of REQUEST FOR COMMENTS.

FOR FURTHER INFORMATION CONTACT: Alicia Richmond Scott, Designated Federal Officer, Pain Management Best Practices Inter-Agency Task Force, U.S. Department of Health and Human Services, Office of the Assistant Secretary for Health, 200 Independence Avenue SW, Room 736E, Washington, DC 20201. Phone: 240-453-2816. Email: paintaskforce@hhs.gov.

SUPPLEMENTARY INFORMATION: The Comprehensive Addiction and Recovery Act of 2016 (CARA), Public Law 114-198, required the Secretary of Health and Human Services, in cooperation with the Secretaries of Defense and Veterans Affairs, to convene the Task Force no later than two years after the CARA enactment. The Task Force is required to propose updates on best practices and recommendations to address gaps or inconsistencies for pain management, including chronic and acute pain, and submit such updates and recommendations to relevant Federal agencies and the general public. The duties of the Task Force are to:

• Identify, review, determine, and propose updates to gaps or inconsistencies between best practices for pain management, taking into consideration:

—Existing pain management research and other relevant research;

—Recommendations from relevant conferences and existing evidence-based guidelines;

—Ongoing efforts at the state and local level and by medical professional organizations to develop improved pain management strategies;

—The management of high-risk populations who receive opioids in the course of medical care, other than for pain management;

—The 2016 Guideline for Prescribing Opioids for Chronic Pain issued by the CDC; and

—Private sector, State, and local government efforts related to pain management and prescribing pain medication.

• Provide the public with at least ninety (90) days to submit comments on any proposed updates and recommendations.

• Develop a strategy for dissemination of information on best practices for pain management to stakeholders, if appropriate.

The Draft Report highlights the progress made towards identifying, reviewing, and determining whether there are gaps in or inconsistencies between best practices for pain management (including chronic and acute pain) developed or adopted by Federal agencies. It includes the Task Force's proposed updates to best practices and recommendations on addressing gaps or inconsistencies. On September 26, 2018, the Task Force voted on the proposed updates and recommendations that would be provided to the public for comment. The proposed updates and recommendations are included in the Draft Report. Once the ninety (90) day comment period concludes, the Task Force will consider comments received and compile a Final Recommendations Report with its proposed updates and recommendations.

Request for Comment: The goal of this Request for Comment is to solicit feedback on the Draft Report, which includes the Task Force's proposed updates and recommendations. The Task Force invites comment on the full range of issues that may be relevant to the proposed updates and recommendations.

Instructions for Commenters: Written comments should not exceed three pages in length. To assist with the review of public comments, the public should cite a specific section, gap and/or recommendation of the report (e.g., acute pain, gap 2 or recommendation 2b) for which the comments are related. Comments that contain references to studies, research, and other empirical data that are not widely available should include copies of the referenced materials with the submitted comments. Comments submitted by email should be machine-readable and should not be copy-protected. Responders are encouraged to include the name of the person or organization filing the comment, in case follow-up is needed, as well as a page number on each page of their submission(s).

Written comments may be submitted by any of the following three methods: (1) Submit through the Federal eRulemaking Portal at http://www.regulations.gov, Docket Number: HHS-OS-2018-0027, (2) Email to: paintaskforce@hhs.gov, or (3) Mail written comments to the U.S. Department of Health and Human Services, Office of the Assistant Secretary for Health, 200 Independence Avenue SW, Room 736E, Attn: Alicia Richmond Scott, Pain Management Task Force Designated Federal Officer, Washington, DC 20201.

Dated: December 11, 2018.
Vanila M. Singh,
Chief Medical Officer, Office of the Assistant Secretary for Health.

[FR Doc. 2018-28403 Filed 12-28-18; 8:45 am]

BILLING CODE 4150-28-P